DEPARTMENT OF ENERGY

Senior Executive Service; Performance Review Board

AGENCY: U. S. Department of Energy.

ACTION: Designation of Performance Review Board Chair.

SUMMARY: This notice designates the Performance Review Board Chair for the Department of Energy.

EFFECTIVE DATE: The appointment is effective as of September 30, 2001.

Performance Review Board Chair

David L. Hamer, Department of Energy

Issued in Washington, DC November 1, 2001.
Christina J. Edwards,
Principal Deputy Director, Office of Management, Budget and Evaluation.

[FR Doc. 01-27967 Filed 11-6-01; 8:45 am]

BILLING CODE 6450-01-P